DEPARTMENT OF THE INTERIOR

National Park Service

[NPS-WASO-NAGPRA-NPS0037761; PPWOCRADN0-PCU00RP14.R50000]

Notice of Inventory Completion: Kansas State University, Manhattan, KS

AGENCY: National Park Service, Interior.

ACTION: Notice.

SUMMARY: In accordance with the Native American Graves Protection and Repatriation Act (NAGPRA), Kansas State University has completed an inventory of human remains and associated funerary objects and has determined that there is a cultural affiliation between the human remains and associated funerary objects and Indian Tribes or Native Hawaiian organizations in this notice.

DATES: Repatriation of the human remains and associated funerary objects in this notice may occur on or after May 16, 2024.

ADDRESSES: Megan Williamson, Department of Sociology, Anthropology, and Social Work, Kansas State University, 204 Waters Hall, 1603 Old Claflin Place, Manhattan, KS 66506-4003, telephone (785) 532-6005, email mwillia1@ksu.edu.

SUPPLEMENTARY INFORMATION: This notice is published as part of the National Park Service's administrative responsibilities under NAGPRA. The determinations in this notice are the sole responsibility of Kansas State University, and additional information on the determinations in this notice, including the results of consultation, can be found in the inventory or related records. The National Park Service is not responsible for the determinations in this notice.

Abstract of Information Available

Based on the information available, human remains representing, at least, 13 individuals have been reasonably identified. The 19,174 associated funerary objects are 8,397 unmodified stone, 7,004, burned/unidentifiable bone fragments, 2,900 chipped stone debris, 260 bone beads, 177 debitage, 142 shell beads, 112 faunal, 63 projectile points (whole & fragmented), 35 ceramic sherds, 17 shell fragments, 16 scrapers, eight worked chert, seven glass fragments, four limestone pieces, four staples, three pellets, two bullets, two quartzite, two spokeshaves, two bifaces, two core fragments, two bullet casings, two unidentifiable metal fragments, two bullets, one bolt, one plastic handle, one baseball, one fossilized shell, one Kansas pipestone, one knife fragment, one chopper, one drill fragment, and one Minnie ball. Missing from the original inventory above are 44 projectile points, three projectile point fragments, one Kansas pipestone, and two ceramic sherds. It is believed that these items were unlawfully removed by non-NAGPRA and departmental staff before the assemblage was relocated to our current more secure facilities.

The 13 individuals were removed from Geary County, KS, during the 1970s. Excavated by Kansas State University under the direction of Dr. Patricia J. O'Brien in May & June of 1974. The excavation of Witt Mound 2 was later completed in May/June of 1979. The removed assemblage has since been under the stewardship of Kansas State University since then.

Cultural Affiliation

Based on the information available and the results of consultation, cultural affiliation is reasonably identified by the geographical location or acquisition history of the human remains and associated funerary objects described in this notice.

Determinations

Kansas State University has determined that:

• The human remains described in this notice represent the physical remains of 13 individuals of Native American ancestry.

• The 19,174 objects described in this notice are reasonably believed to have been placed intentionally with or near individual human remains at the time of death or later as part of the death rite or ceremony.

• There is a reasonable connection between the human remains and associated funerary objects described in this notice and the Kaw Nation, Oklahoma; Pawnee Nation of Oklahoma; The Osage Nation; Three Affiliated Tribes of the Fort Berthold Reservation, North Dakota; and the Wichita and Affiliated Tribes (Wichita, Keechi, Waco, & Tawakonie), Oklahoma.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after May 16, 2024. If competing requests for repatriation are received, Kansas State University must determine the most appropriate requestor prior to repatriation. Requests for joint repatriation of the human remains and associated funerary objects are considered a single request and not competing requests. Kansas State University is responsible for sending a copy of this notice to the Indian Tribes and Native Hawaiian organizations identified in this notice.

Authority: Native American Graves Protection and Repatriation Act, 25 U.S.C. 3003, and the implementing regulations, 43 CFR 10.10.

Dated: April 9, 2024.
Melanie O'Brien,
Manager, National NAGPRA Program.

[FR Doc. 2024-08048 Filed 4-15-24; 8:45 am]

BILLING CODE 4312-52-P